DEPARTMENT OF HEALTH AND HUMAN SERVICES

Centers for Medicare and Medicaid Services

[Document Identifier: CMS-R-38, CMS-R-30, CMS-1957, CMS-R-48, CMS-43, and CMS-R-143]

Agency Information Collection Activities: Submission for OMB Review; Comment Request

AGENCY: Centers for Medicare and Medicaid Services, HHS.

In compliance with the requirement of section 3506(c)(2)(A) of the Paperwork Reduction Act of 1995, the Centers for Medicare and Medicaid Services (CMS) (formerly known as the Health Care Financing Administration (HCFA), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Conditions for Coverage for Rural Health Clinics—42 CFR 491.9 Subpart A; Form No.: CMS-R-38 (OMB #0938-0334); Use: This information is needed to determine if rural health clinics meet the requirements for approval for Medicare Participation.; Frequency: Initial Application for Medicare approval; Affected Public: Business or other for-profit, State, Local, or Tribal Gov't., and not-for-profit institutions, Individuals or households, Farms, and Federal Government; Number of Respondents: 3,305; Total Annual Responses: 3,305; Total Annual Hours: 8,580.

2. Type of Information Collection Request: Reinstatement, with change, of a previously approved collection for which approval has expired; Title of Information Collection: Information Collection Requirements in the Hospice Conditions for Coverage and supporting regulations in 42 CFR 418.22; 418.24; 418.28; 418.56(b),(e)(1), (e)(3); 418.58; 418.70(e); 418.83; 418.86(b); and 418.100(b).; Form No.: CMS-R-30 (OMB #0938-0302); Use: Establishes standards for hospices that wish to participate in the Medicare program. The regulations establish standards for eligibility, reimbursement standards, and procedure, and delineate conditions that hospices must meet to be approved for participation in Medicare.; Frequency: Record Keeping; On occasion; Affected Public: Business or other for-profit; Number of Respondents: 2,311; Total Annual Responses: 2,311; Total Annual Hours: 10,821,923.

3. Type of Information Collection Request: Extension of a currently approved collection; Title of Information Collection: SSO Report of State Buy-In Problems and Supporting Regulation at 42 CFR 407.40; Form No.: HCFA-1957; Use: The HCFA-1957 is issued to assist with communications between the Social Security District Offices, Medicaid State Agencies and HCFA Central Offices in the resolution of beneficiary entitlement under state buy-ins. It is used when a problem arises which cannot be resolved thru normal data exchange. Frequency: On occasion; Affected Public: Individuals or Households, State, Local or Tribal Government; Number of Respondents: 3,000; Total Annual Hours: 1075.

4. Type of Information Collection Request: Revision of a currently approved collection; Title of Information Collection: Hospital COP-42 CFR 482.12, 482.13, 482.22, 482.27, 482.30, 482.41, 482.43, 482.53, 482.56, 482.57, 482.60, 482.61, 482.62, 482.66, 485.618, and 485.631; Form No.: CMS-R-48 (OMB # 0938-0328); Use: Hospitals seeking to participate in the Medicare and Medicaid programs must meet the Conditions of Participation (COP) for Hospitals, 42 CFR Part 482. The information collection requirements contained in this package are needed to implement the Medicare and Medicaid COP for hospitals.; Frequency: Annually; Affected Public: Business or other for-profit, Not-for-profit institutions, Federal Government, State, Local, or Tribal Gov.; Number of Respondents: 6,017; Total Annual Responses: 6,017; Total Annual Hours: 4,798,575.40.

5. Type of Information Collection Request: Extension of a currently approved collection; Title of Information Collection: Application for Health Insurance Benefits Under Medicare for Individuals with Chronic Renal Disease and Supporting Regulations in 42 CFR 406.7 and .13; Form No.: 0938-0080; Use: The CMS-43 is used to establish entitlement to Medicare by individuals with End Stage Renal Disease; Frequency: One-time only; Affected Public: Individuals or Households, Federal Government, State, Loval, or Tribal Gov.; Number of Respondents: 60,000; Total Annual Responses: 60,000; Total Annual Hours: 26,000.

6. Type of Information Collection Request: Extension of a currently approved collection; Title of Information Collection: Analysis of Malpractice Premium Data; Form No.: CMS-R-143 (OMB #0938-0575); Use: Survey of medical liability insurers for use in computing the malpractice component of the geographic practice cost index and the malpractice relation value units.; Frequency: Every 3 years.; Affected Public: State, Local, or Tribal Gov't., Business or other for-profit, and not-for-profit insitutions; Number of Respondents: 50; Total Annual Responses: 50; Total Annual Hours: 150.

To obtain copies of the supporting statement and any related forms for the proposed paperwork collections referenced above, access CMS Web Site address at http://cms.hhs.gov/regulations/pra/default.asp, or E-mail your request, including your address, phone number, OMB number, and CMS document identifier, to Paperwork@hcfa.gov, or call the Reports Clearance Office on (410) 786-1326. Written comments and recommendations for the proposed information collections must be mailed within 30 days of this notice directly to the OMB desk officer: OMB Human Resources and Housing Branch, Attention: Brenda Aguilar, New Executive Office Building, Room 10235, Washington, Dc 20503, Fax Number: (202) 395-6974.

Dated: May 8, 2003.
Dawn Willinghan,
CMS Reports Clearance Officer, Division of Regulations Development and Issuances, Office of Strategic Operations and Regulatory Affairs.

[FR Doc. 03-12228 Filed 5-15-03; 8:45 am]

BILLING CODE 4120-03-P